DEPARTMENT OF HEALTH AND HUMAN SERVICES

Administration for Children and Families

Proposed Information Collection Activity; Infant and Toddler Teacher and Caregiver Competencies (ITTCC) Study (New Collection)

AGENCY: Office of Planning, Research, and Evaluation, Administration for Children and Families, HHS.

ACTION: Request for public comment.

SUMMARY: This is a primary data collection request for the Infant and Toddler Teacher and Caregiver Competencies (ITTCC) study to examine, using qualitative case studies, different approaches to implementing competency frameworks and assessing competencies of teachers and caregivers of infants and toddlers who work in group early care and education (ECE) settings (centers and family child care homes). Each case study will focus on a specific competency framework used by states, institutions of higher education, professional organizations, or ECE programs. This study aims to present an internally valid description of the implementation of competency frameworks and assessment of competencies for up to seven purposively selected cases, not to promote statistical generalization to different sites or service populations.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The ITTCC study will examine implementation and assessment of competency frameworks at (1) the system level (that is, among those charged with creating a structure for and supporting implementation in states, institutions of higher education, and/or professional organizations); and (2) the program level (that is, in the center-based settings and family child care homes in which infant/toddler teachers and caregivers work). We will collect information on how competency frameworks have been developed and implemented; how competencies are assessed; how program directors, center directors, family child care providers, and teachers and caregivers use competency frameworks; key lessons related to implementing competency frameworks and assessing competencies; and perspectives on how competencies can help build the capacity of the workforce teaching and caring for infants and toddlers and support quality improvement.

Respondents: System-level staff (this may include lead developers, lead adopters, administrators for state/local quality improvement initiatives, administrators of licensing and/or credentialing agencies, higher education stakeholders, other training and technical assistance providers, state-level oversight of federal programs) and program-level staff (program and/or center directors, professional development coordinators/managers, center-based teachers/caregivers and family child care providers).

Annual Burden Estimates
Instrument | Number of respondents (total over request period) | Number of responses per respondent (total over request period) | Avg. burden per response (in hours) | Total burden (in hours) | Annual burden (in hours)
System-Level Screening Protocol (Instrument 1) | 30 | 1 | .6 | 18 | 9
System-Level Master Semistructured Interview Protocol (Instrument 2) | 60 | 1 | 1.5 | 90 | 45
Nominations for Programs Protocol (Instrument 3) | 15 | 1 | .3 | 4.5 | 2.25
Program-Level Screening Protocol (Instrument 4) | 70 | 1 | .6 | 42 | 21
Program-Level Master Semistructured Interview Protocol (Instrument 5): Directors | 20 | 1 | 1 | 20 | 10
Program-Level Master Semistructured Interview Protocol (Instrument 5): Family child care providers | 20 | 1 | 1 | 20 | 10
Program-Level Master Semistructured Interview Protocol (Instrument 5): Center-based teachers | 20 | 1 | 0.5 | 10 | 5

Estimated Total Annual Burden Hours: 102.25.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act Section 640 [42 U.S.C. 9835] and Section 649 [42 U.S.C. 9844], and the Child Care and Development Block Grant (CCDBG) Act of 1990, as amended by the CCDBG Act of 2014 (Pub. L. 113-186).

John M. Sweet Jr.,
ACF/OPRE Certifying Officer.

[FR Doc. 2020-19470 Filed 9-2-20; 8:45 am]

BILLING CODE 4184-22-P